CONSUMER PRODUCT SAFETY COMMISSION

Sunshine Act Meeting Notice

TIME AND DATE: Wednesday, September 28, 2011, 8:30 a.m.-12 p.m. and 1 p.m.-3:30 p.m.

PLACE: Room 420, Bethesda Towers, 4330 East West Highway, Bethesda, Maryland.

STATUS: Commission Meeting-Open to the Public.

Matters To Be Considered

Decisional Matter: Unblockable Drains (8:30 a.m.-10:30 a.m.)

Briefing Matters: (Staff Presentations from 10:30 a.m.-12 p.m. and Commission Q&A from 1 p.m.-3:30 p.m.)

(1) Testing & Certification/Components Parts Final Rule;

(2) Representative—Notice of Proposed Rulemaking;

(3) Federal Register Notice on HR2715 Questions.

A live webcast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: September 20, 2011.
Todd A. Stevenson,
Secretary.

[FR Doc. 2011-24545 Filed 9-21-11; 11:15 am]

BILLING CODE 6355-01-P